DEPARTMENT OF HEALTH AND HUMAN SERVICES

Centers for Disease Control and Prevention

[30 DAY-11-02]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project: National Survey of Family Growth, Cycle 6 Main Study—New—National Center for Health Statistics (NCHS), Centers for Disease Control and Prevention (CDC). The National Survey of Family Growth has been conducted periodically since 1973 by the National Center for Health Statistics, CDC. The first five cycles of the NSFG were based on interviews with women 15-44 years of age, to measure factors related to birth and pregnancy rates and maternal and infant health. In Cycle 6, both women and men will be interviewed. The interviews with males 15-44 will address (1) Factors that affect entry into marriage, cohabitation, and fatherhood; (2) factors that affect the spread of Sexually Transmitted Diseases (STDs) and HIV (Human Immunodeficiency Virus, the virus that causes AIDS); and (3) factors that affect men's ability and willingness to carry out their fatherhood roles, including child support.

In 2002, the NSFG will interview a nationally representative sample of 11,500 women and 7,500 men 15-44 years of age. Black, Hispanic, and 15-24-year-old men and women will be sampled at a higher rate than others. A pretest has been conducted. All participation is completely voluntary and confidential. NSFG data help measure the demographics, health status, and behavior of the population of reproductive age (as well as those responsible for most STDs). The NSFG data from the 1995 survey have already been published in more than 60 published NCHS reports and articles in scientific journals. Besides NCHS, users of NSFG data include the Department of Health and Human Services (HHS) Office of Population Affairs, the National Institute for Child Health and Human Development, the CDC HIV/AIDS Prevention program, the CDC's Division of Reproductive Health, the Office of the Assistant Secretary for Planning and Evaluation (OASPE), and the Children's Bureau. Other users include Congress (for Section 905 of the Personal Responsibility and Work Opportunity Reconciliation Act of 1996, among others); the Healthy People 2000 and 2010 initiatives; private researchers in demography, public health, maternal and child health, and state governments. The total annual burden for this data collection is 27,624 hours.

Respondents | Number of respondents | Number of responses/ respondent | Avg. burden/ response (in hrs.)
Survey: screener | 55000 | 1 | 5/60
Survey: males | 7500 | 1 | 1
Survey: females | 11500 | 1 | 80/60
Verification | 2500 | 1 | 5/60

Dated: December 19, 2001.
Nancy E. Cheal,
Acting Associate Director for Policy, Planning and Evaluation, Centers for Disease Control and Prevention.

[FR Doc. 01-32046 Filed 12-28-01; 8:45 am]

BILLING CODE 4163-18-P